FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants

Harborside Logistics, 94 Commercial Street, Suite 201, Portland, ME 04101-4738. Officer: Christopher Robinson, President. (Qualifying Individual)

Baycor International, LLC, 3154 McKaughan Road, Bay #6, Houston, TX 77032. Officers: Jorge A. Aponte, President. (Qualifying Individual) Leonel Barreto, Manager.

Fastland Shipping, Inc., 1990 Westweed Blvd., Suite #240, Los Angeles, CA 90025. Officers: Adel Y. Abdelmooti, President. (Qualifying Individual) Sami A. Mekhemar, Vice President.

Fremart International Inc., 17700 Castleton Street, Suite 338, City of Industry, CA 91748. Officer: Jin Zhao, President. (Qualifying Individual)

Non-Vessel—Operating Common Carrier and Ocean Freight Forwarder Transportation Intermediary Applicant

MTGLOBAL, INC., 16901 Keegan Avenue, Carson, CA 90746. Officer: Cynthia K. Narksuriya, CEO. (Qualifying Individual) Kerem Yogurtcugil, Vice President.

Ocean Freight Forwarder—Ocean Transportation Intermediary Applicants

Scanwell Logistics (CHI), 2455 Arthur Avenue, Elk Grove Village, IL 60007. Officers: Dennis Choy, President. (Qualifying Individual) Adam Hassam, Chairman.

Legero International Houston, Inc., 2502 Farrell Road, Houston, TX 77073. Officer: Elwin Cornelisse, Managing Director. (Qualifying Individual)

Scanwell Logistics (CMH) Inc., 7200 Alum Creek Drive, Suite I, Columbus, OH 43217. Officers: Dennis Choy, President. (Qualifying Individual) Adam Hassam, Chairman.

BPD International Inc., 13152 Rivergate Trail West, Jacksonville, FL 32223. Officer: Bahtiyar Yurdakul, President. (Qualifying Individual)

Dated: February 17, 2006.
Bryant L. VanBrakle,
Secretary.

[FR Doc. E6-2585 Filed 2-22-06; 8:45 am]

BILLING CODE 6730-01-P